DEPARTMENT OF DEFENSE

Department of the Navy

[Docket ID USN-2011-0008]

Privacy Act of 1974; System of Records

AGENCY: Department of the Navy, DoD.

ACTION: Notice to delete two systems of records.

SUMMARY: The Department of the Navy is deleting two systems of records notices in its existing inventory of record systems subject to the Privacy Act of 1974, (5 U.S.C. 552a), as amended.

DATES: This proposed action will be effective without further notice on July 6, 2011 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson, FOIA/Privacy Act Policy Branch, Department of the Navy, 2000 Navy Pentagon, Washington, DC 20350-2000, or by phone at (202) 685-6546.

SUPPLEMENTARY INFORMATION: The Department of the Navy systems of records notices subject to the Privacy Act of 1974, (5 U.S.C. 552a), as amended, have been published in the Federal Register and are available from the address in FOR FURTHER INFORMATION CONTACT.

The Department of the Navy proposes to delete two systems of records notices from its inventory of record systems subject to the Privacy Act of 1974 (5 U.S.C. 552a), as amended. The proposed deletions are not within the purview of subsection (r) of the Privacy Act of 1974, (5 U.S.C. 552a), as amended, which requires the submission of a new or altered system report.

Dated: May 24, 2011.
Aaron Siegel,
Alternate OSD Federal Register Liaison Officer, Department of Defense.

N12308-1

Deletion:

System Name:

Navy Fleet and Family Readiness (FFR) Internship Program (March 10, 2008, 73 FR 12713).

Reason:

Commander, Navy Installations Command, Department of the Navy, has determined this collection is no longer needed and thus obsolete. Future interns will either be placed as volunteers or temporary flex Non Appropriated Fund (NAF) employees at an installation level. N12308-1, The Navy Fleet and Family Readiness (FFR) Internship Program system of records notice can therefore be deleted.

NM12410-1

Deletion:

System Name:

MWR Training Student Database (May 31, 2006, 71 FR 30897).

Reason:

Commander, Navy Installations Command, Department of the Navy, has determined this collection is now taking place under N05230-1, Total Workforce Management Services (TWMS) (October 20, 2010, 75 FR 64715). NM12410-1, MWR Training Student Database system of records notice can therefore be deleted.

[FR Doc. 2011-13873 Filed 6-3-11; 8:45 am]

BILLING CODE 5001-06-P